DEPARTMENT OF ENERGY

Federal Energy Regulatory Commission

Combined Notice of Filings

Take notice that the Commission has received the following Natural Gas Pipeline Rate and Refund Report filings:

Filings Instituting Proceedings

Docket Numbers: RP15-966-000.

Applicants: WPX Energy Marketing, LLC,Morgan Stanley Capitol Group Inc.

Description: Joint Petition of WPX Energy Marketing, LLC and Morgan Stanley Capital Group, Inc. for Temporary Waiver of Capacity Release and Certain Other Regulations and Policies and Related Tariff Provisions, and Request for Expedited Treatment.

Filed Date: 5/4/15.

Accession Number: 20150504-5133.

Comments Due: 5 p.m. ET 5/11/15.

Docket Numbers: RP15-967-000.

Applicants: Caledonia Energy Partners, L.L.C.

Description: Compliance filing per 154.203: Caledonia Energy Partners, L.L.C., FERC Order 801 Compliance Filing to be effective 6/4/2015.

Filed Date: 5/4/15.

Accession Number: 20150504-5136.

Comments Due: 5 p.m. ET 5/18/15.

Docket Numbers: RP15-968-000.

Applicants: Freebird Gas Storage, L.L.C.

Description: Compliance filing per 154.203: Freebird Gas Storage, L.L.C., FERC Order 801 Compliance Filing to be effective 6/4/2015.

Filed Date: 5/4/15.

Accession Number: 20150504-5138.

Comments Due: 5 p.m. ET 5/18/15.

Docket Numbers: RP15-969-000.

Applicants: Enable Gas Transmission, LLC.

Description: Section 4(d) rate filing per 154.204: Negotiated Rate Filing—May 2015—LER 0222 Removal to be effective 5/4/2015.

Filed Date: 5/4/15.

Accession Number: 20150504-5203.

Comments Due: 5 p.m. ET 5/18/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 5, 2015.
Kimberly D. Bose,
Secretary.

[FR Doc. 2015-11462 Filed 5-12-15; 8:45 am]

BILLING CODE 6717-01-P